DEPARTMENT OF HEALTH AND HUMAN SERVICES

Administration for Children and Families

Submission for OMB Review; OPRE Data Collection for State Child Welfare Data Linkages Descriptive Study (New Collection)

AGENCY: Office of Planning, Research, and Evaluation, Administration for Children and Families, HHS.

ACTION: Request for public comment.

SUMMARY: The Administration for Children and Families (ACF) is requesting approval from the Office of Management and Budget (OMB) for a new primary data collection about connected child welfare data. We define connected data as child welfare data that are linked or integrated with data from other systems or agencies. The State Child Welfare Data Linkages Descriptive Study (Data Linkages Descriptive Study) will gather systematic information on the extent to which states connect their child maltreatment data to other data sets; how any linked data sets are created, managed, and used; and challenges states face in linking data.

DATES: Comments due within 30 days of publication. OMB must make a decision about the collection of information between 30 and 60 days after publication of this document in the Federal Register. Therefore, a comment is best assured of having its full effect if OMB receives it within 30 days of publication.

ADDRESSES: Written comments and recommendations for the proposed information collection should be sent within 30 days of publication of this notice to www.reginfo.gov/public/do/PRAMain. Find this particular information collection by selecting “Currently under 30-day Review—Open for Public Comments” or by using the search function. You can also obtain copies of the proposed collection of information by emailing OPREinfocollection@acf.hhs.gov. All emailed requests should be identified by the title of the information collection.

SUPPLEMENTARY INFORMATION:

Description: The State Child Welfare Data Linkages Descriptive Study will examine the extent to which child welfare agencies in 50 states, Puerto Rico, and Washington, DC, link administrative data on child maltreatment to data in other systems and to learn more about states' practices related to sharing and linking data. The study aims to inform the ongoing and accurate surveillance of child maltreatment and identify facilitators and barriers to connected data efforts (integrated data or linked data).

These data are not available from existing sources. This study aims to present an internally valid description of the data capacity of participating state child welfare agencies, not to promote statistical generalization to different sites or service populations.

Respondents: State child welfare directors, designated state child welfare agency staff (identified by a state child welfare director as having knowledge about the state's connected data efforts), and designated county staff (identified by a state child welfare director as having knowledge about a county's connected data efforts).

Annual Burden Estimates
Instrument | Number of respondents (total over request period) | Number of responses per respondent (total over request period) | Average burden per response (in hours) | Total burden (in hours) | Annual burden (in hours)
Initial survey of state child welfare directors | 52 | 1 | 0.67 | 35 | 18
Survey of connected data efforts ¹ | 208 | 1 | 0.58 | 121 | 61
Interviews with individuals responsible for connected data efforts | 120 | 1 | 1 | 120 | 60
¹ Estimates for burden hours define respondent by survey administration and not necessarily by the number of different people completing the survey.

Estimated Total Annual Burden Hours: 139.

Authority: 42 U.S.C. 5105.

Mary B. Jones,
ACF/OPRE Certifying Officer.

[FR Doc. 2022-09028 Filed 4-27-22; 8:45 am]

BILLING CODE 4184-29-P